DEPARTMENT OF TRANSPORTATION

Surface Transportation Board

[STB Finance Docket No. 35231]

Indiana Northeastern Railroad Company—Acquisition and Operation Exemption—Pigeon River Railroad Company

Indiana Northeastern Railroad Company (INRC), a Class III rail carrier, has filed a verified notice of exemption under 49 CFR 1150.41 to acquire from Pigeon River Railroad Company (PGRV) and to operate, approximately 9.27 miles of rail line extending from milepost 122.53, near the Town of Ashley, in Steuben County, IN, to milepost 131.8, near the unincorporated community of South Milford, in LaGrange County, IN.

The transaction is scheduled to be consummated on April 25, 2009, the effective date of the exemption (30 days after the exemption is filed).

INRC certifies that its projected annual revenues as a result of this transaction will not result in INRC becoming a Class II or Class I rail carrier and further certifies that its projected annual revenues will not exceed $5 million.

According to INRC, there is no provision or agreement that may limit future interchange with a third-party connecting carrier.

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the notice contains false or misleading information, the exemption is void ab initio. Petitions to revoke the exemption under 49 U.S.C. 10502(d) may be filed at any time. The filing of a petition to revoke does not automatically stay the effectiveness of the exemption. Petitions for stay must be filed no later than April 17, 2009 (at least 7 days before the exemption becomes effective).

An original and 10 copies of all pleadings, referring to STB Finance Docket No. 35231, must be filed with the Surface Transportation Board, 395 E Street, SW., Washington, DC 20423-0001. In addition, a copy of each pleading must be served on Gordon P. MacDougall, Esq., 1025 Connecticut Avenue, NW., Room 919, Washington, DC 20036-5444.

Board decisions and notices are available on our Web site at http://www.stb.dot.gov.

Decided: April 6, 2009.
By the Board, Joseph H. Dettmar, Acting Director, Office of Proceedings.
Jeffrey Herzig,
Clearance Clerk.

[FR Doc. E9-8095 Filed 4-9-09; 8:45am]

BILLING CODE 4915-01-P